DEPARTMENT OF ENERGY

Federal Energy Regulatory Commission

Combined Notice of Filings

Take notice that the Commission has received the following Natural Gas Pipeline Rate and Refund Report filings:

Filings Instituting Proceedings

Docket Number: PR17-20-000.

Applicants: Atmos Pipeline—Texas.

Description: Tariff filing per 284.123(b), (e)/: Atmos Pipeline—Texas Revisions to Statement of Operating Conditions to be effective 12/21/2016; Filing Type: 980.

Filed Date: 1/23/17.

Accession Number: 201701235002.

Comments/Protests Due: 5 p.m. ET 2/13/17.

Docket Numbers: RP17-348-000.

Applicants: Algonquin Gas Transmission, LLC.

Description: § 4(d) Rate Filing: Negotiated Rate—Bay State release to BBPC 792857 to be effective 2/1/2017.

Filed Date: 1/25/17.

Accession Number: 20170125-5063.

Comments Due: 5 p.m. ET 2/6/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 26, 2017.
Nathaniel J. Davis, Sr.,
Deputy Secretary.

[FR Doc. 2017-02330 Filed 2-2-17; 8:45 am]

BILLING CODE 6717-01-P